SECURITIES AND EXCHANGE COMMISSION

Submission for OMB Review; Comment Request

Upon Written Request Copies Available From: Securities and Exchange Commission, Office of Investor Education and Advocacy, Washington, DC 20549-0213.

Extension:

Form S-4, OMB Control No. 3235-0324, SEC File No. 270-287.

Notice is hereby given that, pursuant to the Paperwork Reduction Act of 1995 (44 U.S.C. 3501 et seq.), the Securities and Exchange Commission (“Commission”) has submitted to the Office of Management and Budget (“OMB”) a request for extension of the previously approved collection of information discussed below.

Form S-4 (17 CFR 239.25) is the form used for registration under the Securities Act of 1933 (15 U.S.C. 77a et seq.) of securities issued in business combination transactions. The information collected is intended to ensure the adequacy of information available to investors in connection with business combination transactions. Form S-4 is a public document and all information provided is mandatory. Form S-4 takes approximately 4,099.68 hours per response to prepare and is filed by 619 registrants annually. We estimate that 25% of the 4,099.68 hours per response (1,024.92 hours) is prepared by the registrant for an annual reporting burden of 634,425 hours (1,024.92 hours per response x 619 responses).

An agency may not conduct or sponsor, and a person is not required to respond to, a collection of information unless it displays a currently valid OMB control number.

The public may view the background documentation for this information collection at the following Web site, www.reginfo.gov . Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Director/Chief Information Officer, Securities and Exchange Commission, c/o Remi Pavlik-Simon, 100 F Street NE., Washington, DC 20549 or send an email to: PRA_Mailbox@sec.gov. Comments must be submitted to OMB within 30 days of this notice.

Dated: March 25, 2014.
Kevin M. O'Neill,
Deputy Secretary.

[FR Doc. 2014-07044 Filed 3-28-14; 8:45 am]

BILLING CODE 8011-01-P